DEPARTMENT OF TRANSPORTATION

Federal Aviation Administration

Notice of Intent To Rule on Application To Use the Revenue From a Passenger Facility Charge (PFC) at Kalamazoo/Battle Creek International Airport, Kalamazoo, Michigan

AGENCY: Federal Aviation Administration (FAA), DOT.

ACTION: Notice of Intent to Rule on Application.

SUMMARY: The FAA proposes to rule and invites public comment on the application to use the revenue from a PFC at Kalamazoo/Battle Creek International Airport under the provisions of the Aviation Safety and Capacity Expansion Act of 1990 (Title IX of the Omnibus Budget Reconciliation Act of 1990) (Pub. L. 101-508) and Part 158 of the Federal Aviation Regulations (14 CFR Part 158).

DATES: Comments must be received on or before July 6, 2000.

ADDRESSES: Comments on this application may be mailed or delivered in triplicate to the FAA at the following address: Federal Aviation Administration, Detroit Airports District Office, Willow Run Airport, East, 8820 Beck Road Belleville, Michigan 48111.

In addition, one copy of any comments submitted to the FAA must be mailed or delivered to Mr. Kenneth Potts, Airport Director of the Kalamazoo/Battle Creek International Airport at the following address: Kalamazoo/Battle Creek International Airport, 5235 Portage Road, Kalamazoo, Michigan 49002.

Air carriers and foreign air carriers may submit copies of written comments previously provided to the Kalamazoo/Battle Creek International Airport under section 158.23 of Part 158.

FOR FURTHER INFORMATION CONTACT: Mr. Gary J. Migut, Program Manager, Federal Aviation Administration, Detroit Airports District Office, Willow Run Airport, East, 8820 Beck Road, Belleville, Michigan 48111 (734-487-7278). The application may be reviewed in person at this same location.

SUPPLEMENTARY INFORMATION: The FAA proposes to rule and invites public comment on the application to use the revenue from a PFC at Kalamazoo/Battle Creek International Airport under the provisions of the Aviation Safety and Capacity Expansion Act of 1990 (Title IX of the Omnibus Budget Reconciliation Act of 1990) (Public Law 101-508) and Part 158 of the Federal Aviation Regulations (14 CFR Part 158).

On May 11, 2000, the FAA determined that the application to use the revenue from a PFC submitted by Kalamazoo/Battle Creek International Airport was substantially complete within the requirements of section 158.25 of Part 158. The FAA will approve or disapprove the application, in whole or in part, no later than July 29, 2000.

The following is a brief overview of the application.

PFC Application No.: 00-02-U-OO-AZO.

Level of the PFC: $3.00.

Actual charge effective date: April 1, 1997.

Estimated charge expiration date: December 1, 2001.

Total approved net PFC revenue: $3,276,183.00.

Brief description of proposed projects: Rehabilitate Taxiway B (South), Glycol Capture System, Rehabilitate Taxiway D, Construct Perimeter Road, Rehabilitate Taxiway A, Rehabilitate Taxiway E.

Class or classes of air carriers which the public agency has requested not be required to collect PFCs: non-scheduled Part 135 Air Taxis/Commercial Operators.

Any person may inspect the application in person at the FAA office listed above FOR FURTHER INFORMATION CONTACT.

In addition, any person may, upon request, inspect the application, notice, and other documents germane to the application in person at the Kalamazoo/Battle Creek International Airport.

Issued in Des Plaines, Illinois, on May 23, 2000.
Benito De Leon,
Manager, Planning/Programming Branch, Airports Division, Great Lakes Region.

[FR Doc. 00-14159 Filed 6-5-00; 8:45 am]

BILLING CODE 4910-13-M